DEPARTMENT OF ENERGY

Federal Energy Regulatory Commission

[Project No. 2935-026]

Melaver/Enterprise Mill, LLC; Enterprise Mill LLC; Notice of Application for Transfer of License and Soliciting Comments, Motions To Intervene, and Protests

On October 12, 2016, Melaver/Enterprise Mill, LLC (transferor) and Enterprise Mill LLC (transferee) filed an application for the transfer of license of the Enterprise Mill Project No. 2935. The project is located on the Augusta Canal of the Savannah River in Richmond County, Georgia. The project does not occupy federal lands.

The applicants seek Commission approval to transfer the license for the Enterprise Mill Project Melaver/Enterprise Mill, LLC to Enterprise Mill LLC.

Applicants Contact: For transferor: Ms. Karen Hudspeth, Melaver/Enterprise Mill, LLC, c/o Melaver, Inc., 114 Barnard Street, Suite 1A, Savannah, GA 31401, phone: 912-236-0781. For transferee: Mr. Carlos Imery, Enterprise Mill LLC, 201 Alhambra Circle, Suite 1205, Coral Gables, FL 33134, phone: 561-212-8331.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2935-026.

Dated: November 1, 2016.
Nathaniel J. Davis, Sr.,
Deputy Secretary.

[FR Doc. 2016-26840 Filed 11-4-16; 8:45 am]

BILLING CODE 6717-01-P